DEPARTMENT OF COMMERCE

Foreign-Trade Zones Board

[B-67-2021]

Foreign-Trade Zone (FTZ) 7—Mayaguez, Puerto Rico, Notification of Proposed Production Activity, AbbVie Ltd. (Pharmaceutical Products), Barceloneta, Puerto Rico

AbbVie Ltd. (AbbVie) submitted a notification of proposed production activity to the FTZ Board (the Board) for its facility in Barceloneta, Puerto Rico within Subzone 7I. The notification conforming to the requirements of the Board's regulations (15 CFR 400.22) was received on September 24, 2021.

Pursuant to 15 CFR 400.14(b), FTZ production activity would be limited to the specific foreign-status materials and specific finished products described in the submitted notification (summarized below) and subsequently authorized by the Board. The benefits that may stem from conducting production activity under FTZ procedures are explained in the background section of the Board's website—accessible via www.trade.gov/ftz. The proposed finished products and materials would be added to the production authority that the Board previously approved for the operation, as reflected on the Board's website.

The proposed finished products include UBRELVY® tablets, ATOGEPANT® tablets and atogepant and ubrelvy extrudates (duty-free).

The proposed foreign-status materials include ubrogepant and atogepant active pharmaceutical ingredients (duty rate 6.5%). The request indicates both materials are subject to duties under section 301 of the Trade Act of 1974 (section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is November 15, 2021.

A copy of the notification will be available for public inspection in the “Online FTZ Information System” section of the Board's website.

For further information, contact Christopher Wedderburn at Chris.Wedderburn@trade.gov.

Dated: September 30, 2021.
Andrew McGilvray,
Executive Secretary.

[FR Doc. 2021-21655 Filed 10-4-21; 8:45 am]

BILLING CODE 3510-DS-P